DEPARTMENT OF DEFENSE

GENERAL SERVICES ADMINISTRATION

NATIONAL AERONAUTICS AND SPACE ADMINISTRATION

[FAR Case 2009-009; Docket 2009-0011, Sequence 1]

Federal Acquisition Regulation; FAR Case 2009-009, American Recovery and Reinvestment Act of 2009 (the Recovery Act)—Reporting Requirements

AGENCIES: Department of Defense (DoD), General Services Administration (GSA), and National Aeronautics and Space Administration (NASA).

ACTION: Notice.

SUMMARY: The Civilian Agency Acquisition Council and the Defense Acquisition Regulations Council (the Councils) are issuing this notice to inform Federal contractors that the Recovery Accountability and Transparency Board (“Board”) has announced the availability of registration at federalreporting.gov. Federal contractors required to report on their use of Recovery Act funds by FAR clause 52.204-11 are encouraged to register early.

DATES: Effective Date: August 25, 2009.

FOR FURTHER INFORMATION CONTACT: For clarification of content, contact Mr. Ernest Woodson, Procurement Analyst, at (202) 501-3775. Please cite Notice to Federal contractors on registration at federalreporting.gov.

SUPPLEMENTARY INFORMATION:

A. Background

On March 31, 2009, the Councils published an interim rule in the Federal Register, FAR Case 2009-009, American Recovery and Reinvestment Act of 2009 (the Recovery Act)—Reporting Requirements (74 FR 14639). The rule implements section 1512 of Public Law 111-5, the American Recovery and Reinvestment Act of 2009 (the “Recovery Act”), which requires Federal contractors that receive awards (or modifications to existing awards) funded, in whole or in part, by the Recovery Act to report quarterly on the use of the funds at federalreporting.gov.

To comply with the reporting required by FAR 52.204-11, Federal contractors must first register at federalreporting.gov. Registration is now open to Federal contractors. The reporting tool will be available on October 1, 2009. Reports, which are due October 10, 2009, can only be submitted once registration is authorized. For more information on the registration and authorization process, go to federalreporting.gov. For information regarding the Paperwork Reduction Act, see Information Collection Request (ICR) Reference Number 200907-0430-001 and OMB Control Number 0430-0002 available at http://www.reginfo.gov/public/do/PRAMain (select “Recovery Accountability and Transparency Board” from the “Select Agency” drop down menu and submit).

Dated: August 19, 2009.
David A. Drabkin,
Deputy Associate Administrator and Senior Procurement Executive, Office of Acquisition Policy.

[FR Doc. E9-20351 Filed 8-24-09; 8:45 am]

BILLING CODE 6820-EP-S